NUCLEAR REGULATORY COMMISSION

[NRC-2009-0098]

10 CFR Part 35

RIN 3150-AI59

Medical Use of Byproduct Material—Authorized User Clarification, Confirmation of Effective Date

AGENCY: Nuclear Regulatory Commission.

ACTION: Direct final rule: Confirmation of effective date.

SUMMARY: The Nuclear Regulatory Commission (NRC) is confirming the effective date of September 28, 2009, for the direct final rule that was published in the Federal Register on July 14, 2009 (74 FR 33901). This direct final rule amended the NRC's regulations to clarify that individuals who do not need to comply with the training and experience requirements as described in the applicable regulations for the medical use of byproduct material (i.e., are “grandfathered”) may serve as preceptors and work experience supervisors for individuals seeking recognition on NRC licenses for the same medical uses of byproduct material.

DATES: The effective date of September 28, 2009, is confirmed for this direct final rule.

ADDRESSES: Documents related to this rulemaking, including comments received, may be examined at the NRC Public Document Room, Room O-1F23, 11555 Rockville Pike, Rockville, MD 20852.

FOR FURTHER INFORMATION CONTACT: Edward M. Lohr, Office of Federal and State Materials and Environmental Management Programs, U.S. Nuclear Regulatory Commission, Washington, DC 20555-0001, telephone 301-415-0253, e-mail—Edward.Lohr@nrc.gov.

SUPPLEMENTARY INFORMATION: On July 14, 2009 (74 FR 33901), the NRC published in the Federal Register a direct final rule amending its regulations in 10 CFR part 35 to clarify that individuals who do not need to comply with the training and experience requirements as described in the applicable regulations for the medical use of byproduct material (i.e., are “grandfathered”) may serve as preceptors and work experience supervisors for individuals seeking recognition on NRC licenses for the same medical uses of byproduct material. In the direct final rule, NRC stated that if no significant adverse comments were received, the direct final rule would become final on September 28, 2009. The NRC did not receive any comments that warranted withdrawal of the direct final rule. Therefore, this rule will become effective as scheduled.

Dated at Rockville, Maryland, this 21st day of August 2009.
For the Nuclear Regulatory Commission.
Michael T. Lesar,
Chief, Rulemaking, Directives and Editing Branch, Division of Administrative Services, Office of Administration.

[FR Doc. E9-20677 Filed 8-26-09; 8:45 am]

BILLING CODE 7590-01-P